DEPARTMENT OF TRANSPORTATION

Surface Transportation Board

[Docket No. FD 35732]

Sonoma-Marin Area Rail Transit District—Acquisition Exemption—In Marin County, Cal.

AGENCY: Surface Transportation Board, DOT.

ACTION: Notice of Exemption.

SUMMARY: The Board is granting an exemption under 49 U.S.C. 10502 from the prior approval requirements of 49 U.S.C. 10902 for Sonoma-Marin Area Rail Transit District (SMART), a Class III rail carrier, to acquire an approximately 11.25-mile line of railroad in Marin County, Cal., from Golden Gate Bridge, Highway, and Transportation District; County of Marin; and Marin County Transit District.

DATES: The exemption will be effective on August 14, 2013. Petitions to stay must be filed by July 25, 2013. Petitions for reconsideration must be filed by August 5, 2013.

ADDRESSES: An original and 10 copies of all pleadings, referring to Docket No. FD 35732, must be filed with the Surface Transportation Board, 395 E Street SW., Washington, DC 20423-0001. In addition, one copy of each pleading must be served on SMART's representative: Linda J. Morgan, Nossaman LLP, 1666 K Street NW., Suite 500, Washington, DC 20006.

FOR FURTHER INFORMATION CONTACT: Amy C. Ziehm, (202) 245-0391. [Assistance for the hearing impaired is available through the Federal Information Relay Service (FIRS) at 1-800-877-8339.]

SUPPLEMENTARY INFORMATION: Additional information is contained in the Board's decision. Board decisions and notices are available on our Web site at www.stb.dot.gov.

Decided: July 9, 2013.
By the Board, Chairman Elliott, Vice Chairman Begeman, and Commissioner Mulvey.
Derrick Gardner,
Clearance Clerk.

[FR Doc. 2013-16872 Filed 7-12-13; 8:45 am]

BILLING CODE 4915-01-P